ENVIRONMENTAL PROTECTION AGENCY

40 CFR Part 2

[EPA-HQ-OAR-2009-0924; FRL-9479-7]

Special Rules Governing Certain Information Obtained Under the Clean Air Act: Technical Correction

AGENCY: Environmental Protection Agency (EPA).

ACTION: Proposed rule.

SUMMARY: The EPA is proposing to correct an erroneous reference in EPA's procedures for handling data collected under the Mandatory Greenhouse Gas Reporting Rule, which are provided in the Special Rules Governing Certain Information Obtained under the Clean Air Act. The proposed correction would not change any requirements for entities regulated under the Mandatory Greenhouse Gas Reporting Rule or the final confidentiality determinations EPA has made for such data. In the “Rules and Regulations” section of this Federal Register, we are making this correction as a direct final rule without a prior proposed rule. If we receive no adverse comment, we will not take further action on this proposed rule.

DATES: Written comments must be received on or before November 16, 2011.

ADDRESSES: Submit your comments, identified by Docket ID No. EPA-HQ-OAR-2009-0924, by mail to Environmental Protection Agency, EPA Docket Center (EPA/DC), Mailcode 6102T, Attention Docket ID No. EPA-HQ-OAR-2009-0924, 1200 Pennsylvania Avenue, NW., Washington, DC 20460. Please include a total of two copies. Comments may also be submitted electronically or through hand delivery/courier by following the detailed instructions in the ADDRESSES section of the direct final rule located in the rules section of this Federal Register.

FOR FURTHER INFORMATION CONTACT: Carole Cook, Climate Change Division, Office of Atmospheric Programs (MC-6207J), Environmental Protection Agency, 1200 Pennsylvania Ave., NW., Washington, DC 20460; telephone number: (202) 343-9263; fax number: (202) 343-2342; e-mail address: GHGReportingRule@epa.gov. For technical information and implementation materials, please go to the Web site http://www.epa.gov/climatechange/emissions/ghgrulemaking.html. To submit a question, select Rule Help Center, then select Contact Us.

SUPPLEMENTARY INFORMATION:

I. Why is EPA issuing this proposed rule?

This document proposes to correct an erroneous reference in special rules governing certain information obtained under the Clean Air Act (40 CFR part 2, subpart B). We have published a direct final rule making this correction in the “Rules and Regulations” section of this Federal Register because we view this as a noncontroversial action and anticipate no adverse comment. We have explained our reasons for this action in the preamble to the direct final rule.

If we receive no adverse comment, we will not take further action on this proposed rule. If the EPA receives adverse comment, we will withdraw the direct final rule and it will not take effect. We would address all public comments in any subsequent final rule based on this proposed rule.

We do not intend to institute a second comment period on this action. Any parties interested in commenting must do so by the comment deadline listed in the DATES section of this document. For further information, please see the information provided in the ADDRESSES section of this document.

II. Does this action apply to me?

Regulated Entities. Entities potentially affected by this proposed action include those listed in Table 1 of this preamble:

Table 1—Examples of Affected Entities by Category
Category | NAICS | Examples of affected facilities
General Stationary Fuel Combustion Sources |  | Facilities operating boilers, process heaters, incinerators, turbines, and internal combustion engines.
| 211 | Extractors of crude petroleum and natural gas.
| 321 | Manufacturers of lumber and wood products.
| 322 | Pulp and paper mills.
| 325 | Chemical manufacturers.
| 324 | Petroleum refineries, and manufacturers of coal products.
| 316, 326, 339 | Manufacturers of rubber and miscellaneous plastic products.
| 331 | Steel works, blast furnaces.
| 332 | Electroplating, plating, polishing, anodizing, and coloring.
| 336 | Manufacturers of motor vehicle parts and accessories.
| 221 | Electric, gas, and sanitary services.
| 622 | Health services.
| 611 | Educational services.
Electricity Generation | 221112 | Fossil-fuel fired electric generating units, including units owned by Federal and municipal governments and units located in Indian Country.
Adipic Acid Production | 325199 | Adipic acid manufacturing facilities.
Aluminum Production | 331312 | Primary Aluminum production facilities.
Ammonia Manufacturing | 325311 | Anhydrous and aqueous ammonia manufacturing facilities.
Cement Production | 327310 | Portland Cement manufacturing plants.
Electronics Manufacturing | 334111 | Microcomputers manufacturing facilities.
| 334413 | Semiconductor, photovoltaic (solid-state) device manufacturing facilities.
| 334419 | LCD unit screens manufacturing facilities.
|  | MEMS manufacturing facilities.
Ferroalloy Production | 331112 | Ferroalloys manufacturing facilities.
Fluorinated Gas Production | 325120 | Industrial gases manufacturing facilities.
Glass Production | 327211 | Flat glass manufacturing facilities.
| 327213 | Glass container manufacturing facilities.
| 327212 | Other pressed and blown glass and glassware manufacturing facilities.
HCFC-22 Production and HFC-23 Destruction | 325120 | Chlorodifluoromethane manufacturing facilities.
Hydrogen Production | 325120 | Hydrogen manufacturing facilities.
Iron and Steel Production | 331111 | Integrated iron and steel mills, steel companies, sinter plants, blast furnaces, basic oxygen process furnace shops.
Lead Production | 331419 | Primary lead smelting and refining facilities.
| 331492 | Secondary lead smelting and refining facilities.
Lime Manufacturing | 327410 | Calcium oxide, calcium hydroxide, dolomitic hydrates manufacturing facilities.
Magnesium Production | 331419 | Primary refiners of nonferrous metals by electrolytic methods.
| 331492 | Secondary magnesium processing plants.
Nitric Acid Production | 325311 | Nitric acid manufacturing facilities.
Petroleum and Natural Gas Systems | 486210 | Pipeline transportation of natural gas.
| 221210 | Natural gas distribution facilities.
| 211 | Extractors of crude petroleum and natural gas.
| 211112 | Natural gas liquid extraction facilities.
Petrochemical Production | 32511 | Ethylene dichloride manufacturing facilities.
| 325199 | Acrylonitrile, ethylene oxide, methanol manufacturing facilities.
| 325110 | Ethylene manufacturing facilities.
| 325182 | Carbon black manufacturing facilities.
Petroleum Refineries | 324110 | Petroleum refineries.
Phosphoric Acid Production | 325312 | Phosphoric acid manufacturing facilities.
Pulp and Paper Manufacturing | 322110 | Pulp mills.
| 322121 | Paper mills.
| 322130 | Paperboard mills.
Silicon Carbide Production | 327910 | Silicon carbide abrasives manufacturing facilities.
Soda Ash Manufacturing | 325181 | Alkalies and chlorine manufacturing facilities.
| 212391 | Soda ash, natural, mining and/or beneficiation.
Electrical Transmission and Distribution Equipment Use | 221121 | Electric bulk power transmission and control facilities.
Titanium Dioxide Production | 325188 | Titanium dioxide manufacturing facilities.
Underground Coal Mines | 212113 | Underground anthracite coal mining operations.
| 212112 | Underground bituminous coal mining operations.
Zinc Production | 331419 | Primary zinc refining facilities.
| 331492 | Zinc dust reclaiming facilities, recovering from scrap and/or alloying purchased metals.
Municipal Solid Waste Landfills | 562212 | Solid waste landfills.
| 221320 | Sewage treatment facilities.
Industrial Wastewater Treatment | 322110 | Pulp mills.
| 322121 | Paper mills.
| 322122 | Newsprint mills.
| 322130 | Paperboard mills.
| 311611 | Meat processing facilities.
| 311411 | Frozen fruit, juice, and vegetable manufacturing facilities.
| 311421 | Fruit and vegetable canning facilities.
| 325193 | Ethanol manufacturing facilities.
Suppliers of Coal Based Liquid Fuels | 211111 | Coal liquefaction at mine sites.
Suppliers of Petroleum Products | 324110 | Petroleum refineries.
Suppliers of Natural Gas and NGLs | 221210 | Natural gas distribution facilities.
| 211112 | Natural gas liquid extraction facilities.
Suppliers of Industrial Greenhouse Gases | 325120 | Industrial gas manufacturing facilities.
Suppliers of Carbon Dioxide (CO2) | 325120 | Industrial gas manufacturing facilities.
Importers and Exporters of Fluorinated Greenhouse Gases in Pre-charged Equipment or Closed-Cell Foams | 423730 | Air-conditioning equipment (except room units) merchant wholesalers.
| 333415 | Air-conditioning equipment (except motor vehicle) manufacturing.
| 336391 | Motor vehicle air-conditioning manufacturing.
| 423620 | Air-conditioners, room, merchant wholesalers.
| 443111 | Household appliance stores.
| 423730 | Automotive air-conditioners merchant wholesalers.
| 326150 | Polyurethane foam products manufacturing.
| 335313 | Circuit breakers, power, manufacturing.
| 423610 | Circuit breakers merchant wholesalers.
Geologic Sequestration of Carbon Dioxide | N/A | CO2 geologic sequestration projects.
Electrical Equipment Manufacture or Refurbishment | 33531 | Power transmission and distribution switchgear and specialty transformers manufacturing facilities.
Industrial Waste Landfills | 562212 | Solid waste landfills.
| 221320 | Sewage treatment facilities.
| 322110 | Pulp mills.
| 322121 | Paper mills.
| 322122 | Newsprint mills.
| 322130 | Paperboard mills.
| 311611 | Meat processing facilities.
| 311411 | Frozen fruit, juice, and vegetable manufacturing facilities.
| 311421 | Fruit and vegetable canning facilities.
Injection of Carbon Dioxide | 211 | Oil and gas extraction projects using CO2 enhanced oil and gas recovery.
| 211111 or 211112 | Projects that inject acid gas containing CO2 underground.

Table 1 of this preamble is not intended to be exhaustive, but rather provides a guide for readers regarding facilities likely to be affected by this action and 40 CFR part 98. Table 1 of this preamble lists the types of facilities that the EPA is now aware could be potentially affected by this action. Other types of facilities not listed in the table could also be affected. To determine whether your facility is affected by this action, you should carefully examine the applicability criteria found in 40 CFR part 98, subpart A, and other subparts as necessary. If you have questions regarding the applicability of this action to a particular facility, consult the person listed in the preceding FOR FURTHER INFORMATION CONTACT section.

Table of Contents

I. Why is EPA issuing this Proposed Rule?

II. Does this action apply to me?

III. Statutory and Executive Order Reviews

A. Executive Order 12866: Regulatory Planning and Review and Executive Order 13563: Improving Regulation and Regulatory Review

B. Paperwork Reduction Act

C. Regulatory Flexibility Act (RFA)

D. Unfunded Mandates Reform Act (UMRA)

E. Executive Order 13132: Federalism

F. Executive Order 13175: Consultation and Coordination With Indian Tribal Governments

G. Executive Order 13045: Protection of Children From Environmental Health Risks and Safety Risks

H. Executive Order 13211: Actions That Significantly Affect Energy Supply, Distribution, or Use

I. National Technology Transfer and Advancement Act

J. Executive Order 12898: Federal Actions To Address Environmental Justice in Minority Populations and Low-Income Populations.

III. Statutory and Executive Order Reviews

A. Executive Order 12866: Regulatory Planning and Review and Executive Order 13563: Improving Regulation and Regulatory Review

This action is not a “significant regulatory action” under the terms of Executive Order 12866 (58 FR 51735, October 4, 1993) and is therefore not subject to review under Executive Orders 12866 and 13563 (76 FR 3821, January 21, 2011).

B. Paperwork Reduction Act

The correction to 40 CFR part 2 would not impose any information collection burden.

C. Regulatory Flexibility Act (RFA)

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions. For purposes of assessing the impacts of the amendments on small entities, small entity is defined as: (1) A small business as defined by the Small Business Administration's regulations at 13 CFR 121.201; (2) a small governmental jurisdiction that is a government of a city, county, town, school district or special district with a population of less than 50,000; and (3) a small organization that is any not-for-profit enterprise which is independently owned and operated and is not dominant in its field. After considering the economic impacts of today's proposed correction to the citation in 40 CFR part 2 on small entities, I certify that this action would not have a significant economic impact on a substantial number of small entities. In determining whether a rule has a significant economic impact on a substantial number of small entities, the impact of concern is any significant adverse economic impact on small entities, since the primary purpose of the regulatory flexibility analyses is to identify and address regulatory alternatives “which minimize any significant economic impact of the rule on small entities.” 5 U.S.C. 603 and 604. Thus, an agency may certify that a rule will not have a significant economic impact on a substantial number of small entities if the rule relieves regulatory burden, or otherwise has a positive economic effect on all of the small entities subject to the rule.

This proposed rule would not impose any new requirement on small entities that are not currently required by Part 98. The amendment to 40 CFR part 2 is administrative in nature. Therefore, this rule would not have a significant economic impact on a substantial number of small entities.

D. Unfunded Mandates Reform Act (UMRA)

This action contains no federal mandates under the provisions of Title II of the Unfunded Mandates Reform Act of 1995 (UMRA), 2 U.S.C. 1531-1538 for state, local, or Tribal governments or the private sector. The action would impose no enforceable duty on any state, local or Tribal governments or the private sector. Therefore, this action is not subject to the requirements of sections 202 or 205 of the UMRA. This action is also not subject to the requirements of section 203 of UMRA because it contains no regulatory requirements that might significantly or uniquely affect small governments. The correction in this proposed rule revises a citation reference in one section of 40 CFR part 2, subpart B to confirm the original intention of the reference by correcting the citation to statutory authority.

E. Executive Order 13132: Federalism

This proposed change to 40 CFR part 2 would not have federalism implications. It would not have substantial direct effects on the states, on the relationship between the national government and the states, or on the distribution of power and responsibilities among the various levels of government, as specified in Executive Order 13132. However, for a more detailed discussion about how Part 98 relates to existing state programs, please see Section II of the preamble to the final part 98 rule (74 FR 56266).

The correction to 40 CFR part 2 is administrative in nature and would apply to data reported under Part 98 by facilities that directly emit GHGs or supply fuel or chemicals that may emit GHGs when used. Part 98 does not apply to governmental entities unless the government entity owns a facility that directly emits GHGs above threshold levels such as large stationary combustion sources or landfills, so relatively few government facilities would be affected. The change to 40 CFR part 2 also would not limit the power of states or local governments to collect GHG data or regulate GHG emissions. Thus, Executive Order 13132 does not apply to this action.

F. Executive Order 13175: Consultation and Coordination With Indian Tribal Governments

This action is not expected to have Tribal implications, as specified in Executive Order 13175 (65 FR 67249, November 9, 2000), because this action is administrative in nature and would not impose any new requirements on Tribes. Thus, Executive Order 13175 does not apply to this action.

G. Executive Order 13045: Protection of Children From Environmental Health Risks and Safety Risks

The EPA interprets Executive Order 13045 (62 FR 19885, April 23, 1997) as applying only to those regulatory actions that concern health or safety risks, such that the analysis required under section 5-501 of the Executive Order has the potential to influence the regulation. This action is not subject to Executive Order 13045 because it would not establish an environmental standard intended to mitigate health or safety risks.

H. Executive Order 13211: Actions That Significantly Affect Energy Supply, Distribution, or Use

This action is not a “significant energy action” as defined in Executive Order 13211 (66 FR 28355, May 22, 2001), because it is not likely to have a significant adverse effect on the supply, distribution, or use of energy. The amendments to 40 CFR part 2 are administrative in nature and therefore would not have any adverse impacts on energy supply, distribution, or use.

I. National Technology Transfer and Advancement Act

Section 12(d) of the National Technology Transfer and Advancement Act of 1995 (NTTAA), Public Law No. 104-113, 12(d) (15 U.S.C. 272 note) directs the EPA to use voluntary consensus standards in its regulatory activities unless to do so would be inconsistent with applicable law or otherwise impractical. Voluntary consensus standards are technical standards (e.g., materials specifications, test methods, sampling procedures, and business practices) that are developed or adopted by voluntary consensus standards bodies. NTTAA directs the EPA to provide Congress, through OMB, explanations when the Agency decides not to use available and applicable voluntary consensus standards.

This proposed change to 40 CFR part 2 is administrative in nature and would not involve technical standards. Therefore, the EPA did not consider the use of any voluntary consensus standards.

J. Executive Order 12898: Federal Actions To Address Environmental Justice in Minority Populations and Low-Income Populations

Executive Order 12898 (59 FR 7629, February 16, 1994) establishes federal executive policy on environmental justice. Its main provision directs federal agencies, to the greatest extent practicable and permitted by law, to make environmental justice part of their mission by identifying and addressing, as appropriate, disproportionately high and adverse human health or environmental effects of their programs, policies, and activities on minority populations and low-income populations in the United States.

The EPA has determined that the proposed action would not have disproportionately high and adverse human health or environmental effects on minority or low-income populations because the correction noted would not affect the level of protection provided to human health or the environment. The change to 40 CFR part 2 is administrative in nature and therefore would not affect the level of protection provided to human health or the environment.

List of Subjects in 40 CFR Part 2

Environmental protection, Administrative practice and procedure, Reporting and recordkeeping requirements.

Dated: October 11, 2011.
Lisa P. Jackson,
Administrator.

[FR Doc. 2011-26765 Filed 10-14-11; 8:45 am]

BILLING CODE 6560-50-P